ENVIRONMENTAL PROTECTION AGENCY

40 CFR Parts 9 and 141

[FRL-6726-1]

RIN 2040-AD06

National Primary Drinking Water Regulations: Public Notification Rule

AGENCY: Environmental Protection Agency (EPA).

ACTION: Final rule; technical correction.

SUMMARY: The Environmental Protection Agency published in the Federal Register of May 4, 2000, final regulations to revise the public notification requirements that public water systems must follow under the Safe Drinking Water Act. Inadvertently, the May 4 document had several incorrect regulatory citations and other formatting problems. Today's action corrects the regulatory citations and the formatting problems.

DATES: Effective on June 30, 2000.

FOR FURTHER INFORMATION CONTACT: For technical inquiries, contact Carl B. Reeverts at (202) 260-7273 or e-mail: reeverts.carl@epa.gov. Contact the Safe Drinking Water Hotline, toll free (800) 426-4791 for general information about the rule and this correction notice.

SUPPLEMENTARY INFORMATION: The EPA published final public notification regulations in the Federal Register of May 4, 2000 (65 FR 25981). Several incorrect citations and formatting errors in the May 4, 2000 document are corrected by today's action. Section 553 of the Administrative Procedure Act (APA), 5 U.S.C. 553(b)(B), provides that, when an agency for good cause finds that notice and public procedure are impracticable, unnecessary or contrary to the public interest, the agency may issue a rule without providing notice and an opportunity for public comment. EPA has determined that there is good cause for making today's rule final without prior proposal and opportunity for public comment, because today's action only corrects formatting errors and minor citation errors in the final rule published in the Federal Register on May 4, 2000 (65 FR 25981). Thus, notice and public procedure are unnecessary. EPA finds that this constitutes good cause under 5 U.S.C. 553(b)(B). For the same reasons, EPA is making the provisions of this rule effective upon promulgation, as authorized under section 553(d) of the APA.

I. Corrections to the Regulation

Correction to Part 9 Table

The amendment to part 9 in the May 4 document (65 FR 26021-22) revised the table under § 9.1, OMB approvals under the Paperwork Reduction Act, to insert the OMB Control Number for the new and revised public notification requirements contained in the final public notification rule. The May 4 document inadvertently amended a § 9.1 table that had already been superceded by a separate regulatory action.

Correction to CFR Citations to Conform to New Public Notification Subpart

Amendment 3 of the May 4 document (65 FR 26022) revised references to the public notification regulations in other parts of 40 CFR Part 141 from the existing citation (§ 141.32) to the new Subpart Q. The May 4 document in several places inadvertently included the incorrect CFR citation.

Correction to Incorrect Citation in Amendment 16

Amendment 16 of the May 4 document (65 FR 26035) revised the reporting requirements under the Interim Enhanced Surface Water Treatment Rule to conform to the revised public notification regulations. The May 4 document included an incorrect citation.

Correct Format in § 141.201-§ 141.210 To Italicize Questions

In accordance with the plain language format of the final public notification regulations, the requirements in the new Subpart Q under § 141.201 to § 141.210 were presented in question and answer format. To make the presentation as clear and easy to read as possible, EPA chose to italicize the questions to highlight the presentation of the requirements. Inadvertently, the May 4 document (65 FR 26035-26039) included some but not all of the questions in italicized form. This notice restores the questions to the italicized form as intended.

Correcting Formatting Errors in Appendix B to Subpart Q

Appendix B to Subpart Q presents the standard health effects language for each regulated contaminant. Public water systems are to include the standard health effects language in their public notices for violations of an MCL or treatment technique requirement. The contaminant list in Appendix B is grouped into the major contaminant categories for ease of reference. Inadvertently, Appendix B in the May 4 document (65 FR 26043-26048) contained formatting errors requiring correction.

A. PART 9—[CORRECTED]

1. On page 26021 in the third column, under the “Authority” paragraph, insert a comma between “1326” and “1330”.

2. On page 26021 in the third column, in the third line under amendment 2, “142.10-142.15” is corrected to read “142.10-142.14” and “142.15” is inserted after “142.10-142.14”.

3. On page 26022 in the first column, in the table in § 9.1, the following corrections are made: a. Under the first column of the table, “142.14(a)-(e)” is corrected to read “142.14(a)-(d)(7)” and “142.15(b)-(d)” is corrected to read “142.15(b)-(c)(3)''.

b. The entry for 142.16(b)-(e) is removed.

c. New entries are added in numerical order as follows:

§ 9.1 OMB approvals under the Paperwork Reduction Act.

* * * * *

40 CFR citation | OMB control number
* * * * *
142.14(e) | 2040-0090
* * * * *
142.15(c)(5)-(d) | 2040-0090
* * * * *
142.16(b)-(c) | 2040-0090
* * * * *
142.16(e) | 2040-0090

B. INCORRECT CITATIONS ON PAGE 26022 [CORRECTED]

1. On page 26022 in the first column, in the paragraph of citations for amendment 3, the following corrections are made:

a. Insert “(b)(1)(iii)” between “141.133(b)(1)(i)” and “(b)(2)” in the fourth line and insert “and (d)” after “(c)(1)(i)” in the fifth line.

b. In the fourth line, delete the word “and” between “(b)(3)” and “(c)(1)(i)”

c. In the tenth and eleventh lines, “141.33(c)(2)(ii)” is corrected to read “141.133(c)(2)(ii)” and “141.133(e)(78)” is corrected to read “141.32(e)(78) ”.

C. INCORRECT CITATION ON PAGE 26035 [CORRECTED]

1. On page 26035 in the first column, in the fourth line under § 141.175(c)(2), “142.173(b)” is corrected to read “141.173(b)”.

D. INCORRECT FORM OF TEXT ON PAGES 26035-26039 [CORRECTED]

1. On page 26035, in the third column, the first sentence in § 141.201(b) and (c) is put in italicized form.

2. On page 26036, in the first and second column, the first sentence in § 141.202(a) and (c) is put in italicized form.

3. On page 26036, in the third column, the first sentence in § 141.203(a) is put in italicized form.

4. On page 26037, in the middle column, and on page 26038, in the first column, the first sentence in § 141.204(a) and 141.204(d) are put in italicized form.

5. On page 26038, the first sentence in § 141.205(a), (b), (c), (d) are put in italicized form.

6. On page 26039, the first sentence in §§ 141.206(a) and (b); 141.207(a) and (b); 141.208(a), (b) and (c); 141.209(a) and (b); and 141.210(a) and (b) are put in italicized form.

E. APPENDIX B TO PART 141, SUBPART B [CORRECTED]

1. On pages 26043 through 26047, in the table in Appendix B, the following corrections are made to the column 1 headings:

a. Under the first column of the table on page 26043, insert a new heading between contaminant number 7, “Cryptosporidium (IESWTR)”, and contaminant number 8, “Antimony”, titled “C. Inorganic Chemicals (IOCs):”.

b. Under the first column of the table on page 26044, replace the heading “C. Lead and Copper Rule:” with the corrected heading “D. Lead and Copper Rule:”.

c. Under the first column of the table on page 26044, insert a new heading between contaminant number 24, “Copper”, and contaminant number 25, “2,4-D”, titled “E. Synthetic Organic Chemicals (SOCs):”

d. Under the first column of the table on page 26045, insert a new heading between contaminant number 54, “Toxaphene”, and contaminant number 55, “Benzene”, titled “F. Volatile Organic Chemicals (VOCs):”

e. Under the first column of the table on page 26046, insert a new heading between contaminant number 75, “Xylenes (total)” and contaminant number 76, “Beta/photon emitters”, titled “G. Radioactive Contaminants:”.

f. Under the first column of the table on page 26046, replace the heading title “G. Disinfection Byproducts (DBPs), Byproduct Precursers, and Disinfectant Residuals:” with the corrected heading “H. Disinfection Byproducts (DBPs), Byproduct Precursers, and Disinfectant Residuals:”

g. Under the first column of the table on page 26047, replace the heading title “H. Other Treatment Techniques:” with the corrected heading “I. Other Treatment Techniques:”

2. On pages 26044, 26045, and 26046, in the table in Appendix B, the following corrections are made to the column 4 standard health effects language text:

a. Under the fourth column on page 26044 for contaminant 24, “Copper”, the last sentence of the health effects language, “11D. Synthetic Organic Chemicals (SOCs):”, is removed.

b. Under the fourth column on page 26045 for contaminant 54, “Toxaphene”, the last sentence of the health effects language, “11E. Volatile Organic Chemicals (VOCs)”, is removed.

c. Under the fourth column on page 26046 for contaminant 75, “Xylenes (total)”, the last sentence of the health effects language, “11F. Radioactive Contaminants:”, is removed.

3. Under the first column on page 26048, the Appendix B—Endnotes, remove footnote 11 and renumber footnotes 12-22 as 11-21.

II. Administrative Requirements

Under Executive Order 12866 (58 FR 51735, October 4, 1993), this action is not a “significant regulatory action” and is therefore not subject to review by the Office of Management and Budget. Because the agency has made a “good cause” finding that this action is not subject to notice-and-comment requirements under the Administrative Procedure Act or any other statute [see discussion under “Supplementary Information”], it is not subject to the regulatory flexibility provisions of the Regulatory Flexibility Act (5 U.S.C. 601 et seq.), or to Sections 202 and 205 of the Unfunded Mandates Reform Act of 1995 (UMRA) (Pub. L. 104-4). In addition, this action does not significantly or uniquely affect small governments or impose a significant intergovernmental mandate, as described in Sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. For all of these regulatory assessment provisions, EPA notes that today's notice only corrects unintended errors and omissions in an earlier rulemaking.

This action does not involve technical standards; thus, the requirements of Section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by Section 3 of Executive Order 12988 (61 FR 4729, February 7, 1996). This rule does not impose an information collection burden under the provisions of the Paperwork Reduction Act of 1995 (44 U.S.C. 3501 et seq.). EPA's compliance with these statutes and Executive Orders for the underlying rule is discussed in the May 4, 2000 Federal Register notice.

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. (5 U.S.C. 808(2)). As stated previously, EPA has made such a good cause finding, including the reasons therefore, and established an effective date of June 30, 2000. EPA will submit a report containing this rule and other required information to the U.S. Senate, U.S. House of Representatives, and the Comptroller General of the United States prior to publication of the rule in the Federal Register. This action is not a “major rule” as defined by 5 U.S.C.804(2).

List of Subjects

40 CFR Part 9

Reporting and recordkeeping requirements.

40 CFR Part 141

Environmental protection, Chemicals, Indian-lands, Intergovernmental relations, Radiation protection, Reporting and recordkeeping requirements, Water supply.

Dated: June 21, 2000.
J. Charles Fox,
Assistant Administrator, Office of Water.

[FR Doc. 00-16363 Filed 6-29-00; 8:45 am]

BILLING CODE 6560-50-P